DEPARTMENT OF ENERGY

Federal Energy Regulatory Commission

Combined Notice of Filings

Take notice that the Commission has received the following Natural Gas Pipeline Rate and Refund Report filings:

Filings Instituting Proceedings

Docket Numbers: PR14-27-000.

Applicants: Enable Oklahoma Intrastate Transmission, LLC.

Description: Tariff filing per 284.123(b)(1)/.: Revised Fuel Percentages for April 1, 2014 through March 31, 2015 to be effective 2/28/2014; TOFC: 980.

Filed Date: 2/28/14.

Accession Number: 20140228-5144.

Comments Due: 5 p.m. ET 3/21/14.

Docket Numbers: PR14-28-000.

Applicants: American Midstream (Louisiana Intrastate), LLC.

Description: Tariff filing per 284.123(e)/.224: Fuel Retention Adjustment to be effective 4/1/2014; TOFC: 770.

Filed Date: 2/28/14.

Accession Number: 20140228-5169.

Comments Due: 5 p.m. ET 3/21/14.

Docket Numbers: PR14-29-000.

Applicants: Crosstex LIG, LLC.

Description: Tariff filing per 284.123(b)(2)/.: Petition for Approval of Rates to be effective 3/4/2014; TOFC: 760.

Filed Date: 3/6/14.

Accession Number: 20140306-5062.

Comments Due: 5 p.m. ET 3/27/14.

Docket Numbers: PR14-30-000.

Applicants: Overland Trail Transmission, LLC.

Description: Tariff filing per 284.123(g)/.224: Cancellation of Statement of Operating Conditions to be effective 4/1/2014; TOFC: 1290.

Filed Date: 3/6/14.

Accession Number: 20140306-5065.

Comments Due: 5 p.m. ET 3/27/14.

284.123(g) Protests Due: 5 p.m. ET 5/5/14

Docket Numbers: RP14-605-000.

Applicants: Gulf South Pipeline Company, LP.

Description: PAL Neg Rate Agmts (42112, 42113, 42114, 42115, 42116) to be effective 3/5/2014.

Filed Date: 3/5/14.

Accession Number: 20140305-5051.

Comments Due: 5 p.m. ET 3/17/14.

Docket Numbers: RP14-608-000.

Applicants: El Paso Natural Gas Company, L.L.C.

Description: Non-Conforming Agreement Filing (MGI) to be effective 4/6/2014.

Filed Date: 3/6/14.

Accession Number: 20140306-5057.

Comments Due: 5 p.m. ET 3/18/14.

Docket Numbers: RP14-609-000.

Applicants: Golden Pass Pipeline LLC.

Description: Golden Pass Pipeline LLC Cost and Revenue Study CP04-400-002.

Filed Date: 3/7/14.

Accession Number: 20140307-5003.

Comments Due: 5 p.m. ET 3/19/14.

Docket Numbers: RP14-610-000.

Applicants: TC Offshore LLC.

Description: Arena_Superior Neg Rate Agmts to be effective 3/7/2014.

Filed Date: 3/7/14.

Accession Number: 20140307-5016.

Comments Due: 5 p.m. ET 3/19/14.

Docket Numbers: RP14-611-000.

Applicants: Columbia Gas Transmission, LLC.

Description: Request for extension of previously-granted authority to acquire and use off-system Millennium Pipeline Company, L.L.C.'s capacity of Columbia Gas Transmission, LLC.

Filed Date: 3/7/14.

Accession Number: 20140307-5091.

Comments Due: 5 p.m. ET 3/19/14.

Docket Numbers: RP14-612-000.

Applicants: Eni Petroleum US LLC,ENI USA Gas Marketing LLC.

Description: Joint Petition for Temporary Waiver of Capacity Release Regulations and Policies and Related Tariff Provisions and Request for Expedited Action of Eni Petroleum US LLC and Eni USA Gas Marketing LLC.

Filed Date: 3/7/14.

Accession Number: 20140307-5102.

Comments Due: 5 p.m. ET 3/14/14.

Docket Numbers: RP14-613-000.

Applicants: Northwest Pipeline LLC.

Description: Grandfathered Uni-lateral Evergreen Provision to be effective 4/8/2014.

Filed Date: 3/7/14.

Accession Number: 20140307-5191.

Comments Due: 5 p.m. ET 3/19/14.

Docket Numbers: RP14-614-000.

Applicants: Natural Gas Pipeline Company of America.

Description: Negotiated Rate Filing-Integrys Energy to be effective 3/8/2014.

Filed Date: 3/7/14.

Accession Number: 20140307-5222.

Comments Due: 5 p.m. ET 3/19/14.

Any person desiring to intervene or protest in any of the above proceedings must file in accordance with Rules 211 and 214 of the Commission's Regulations (18 CFR § 385.211 and § 385.214) on or before 5:00 p.m. Eastern time on the specified date(s). Protests may be considered, but intervention is necessary to become a party to the proceeding.

Filings in Existing Proceedings

Docket Numbers: RP10-877-008.

Applicants: Cameron Interstate Pipeline, LLC.

Description: Cameron Interstate Pipeline Revised Section 9.0_March 2014 to be effective 11/1/2010 under RP10-877 Filing Type: 580.

Filed Date: 3/6/14.

Accession Number: 20140306-5081.

Comments Due: 5 p.m. ET 3/18/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated March 10, 2014.
Nathaniel J. Davis, Sr.,
Deputy Secretary.

[FR Doc. 2014-05789 Filed 3-14-14; 8:45 am]

BILLING CODE 6717-01-P